DEPARTMENT OF DEFENSE

Office of Secretary

[DOD-2007-0S-0120]

Privacy Act of 1974; System of Records

AGENCY: Defense Intelligence Agency, DoD.

ACTION: Notice to add a system of records.

SUMMARY: The Defense Intelligence Agency is proposing to add a system of records to its existing inventory of records systems subject to the Privacy Act of 1974, (5 U.S.C. 552a), as amended.

DATES: The proposed action will be effective on December 14, 2007 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on November 5, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 7, 2007.
L.M. Bynum,
Alternate OSD Federal Register Liaison Officer, Department of Defense.

LDIA: 07-0004

System Name:

Secure Facilities Repository Records.

System Location:

Defense Intelligence Agency, 200 MacDill Boulevard, Washington, DC 20340-0001.

Categories of Individuals Covered by the System:

DIA Civilian Employees, DIA Contractors, Military and DoD Personnel.

Categories of Records in the System:

Individual's name and Social Security Number (SSN).

Authority for Maintenance of the System:

5 U.S.C. 301, 10 U.S.C. 113, 44 U.S.C. 3102, Departmental Regulation; DoD 5200.2R, Personnel Security Programs; DCI Directive 6-4, Personnel Standards and Procedures for access to Special Compartmented Information; DIA Manual 50-8, Personnel Security Program; DIA Manual 50-14, Security Investigations, and E.O. 9397 (SSN).

Purpose(s):

To process and track the current and historical facility records of secure facilities and other government agencies processing sensitive information. Additional functions include the processing and generation of DIA Firearms Program Weapons Cards and the maintenance of DIA personnel training records for those who receive training from the Security Education and Awareness Branch.

Routine Uses of Records maintained in the system, including categories of users:

In addition to those disclosures generally permitted under 5 U.S.C. 552a(b) of the Privacy Act, these records or information contained therein may specifically be disclosed outside the Department of Defense as a routine use pursuant to 5 U.S.C. 552a(b)(3) as follows:

The DoD “Blanket Routine Uses” also apply to this system of records.

Policies and Practices for Storing, Retrieving, Accessing, Retaining, and Disposing of Records in the System:

Storage:

Electronic storage media.

Retrievability:

Name and Social Security Number (SSN).

Safeguards:

Records are maintained in a controlled facility. Physical entry is restricted by the use of guards, locks and administrative procedures. Automated records are password controlled and reside on a secure network with security enhancing features to restrict access to personnel responsible for servicing the records in the performance of their official duties and who are properly screened and cleared for a need-to-know.

Retention and Disposal:

Records are temporary and are deleted when no longer required for current operations.

System Manager(s) Title and Address:

Chief, Security Operations Division, Defense Intelligence Agency, 200 MacDill Blvd., Washington, DC 20340.

Notification Procedure:

Individuals seeking to determine whether information about themselves is contained in this system of records should address written inquiries to the DIA Freedom of Information Act (FOIA) Office (DAN-1A), Defense Intelligence Agency, 200 MacDill Blvd., Washington DC 20340-5100.

Requests should contain individual's full name, current address, telephone number, and Social Security Number (SSN).

Record Access Procedures:

Individuals seeking access to information about themselves contained in this system of records should address written inquiries to the DIA Freedom of Information Act (FOIA) Office (DAN-1A), Defense Intelligence Agency, 200 MacDill Blvd., Washington DC 20340-5100.

Requests should contain individual's full name, current address, telephone number, and Social Security Number (SSN).

Contesting Record Procedures:

DIA's rules for accessing records, for contesting contents and appealing initial agency determinations are published in DIA Regulation 5400.001 “Defense Intelligence Agency Privacy Program.”

Record Source Categories:

Individuals.

Exemptions Claimed for the System:

None.

[FR Doc. E7-22256 Filed 11-13-07; 8:45 am]

BILLING CODE 5001-06-P